FEDERAL COMMUNICATIONS COMMISSION

Notice of Public Information Collection(s) Being Submitted for Review to the Office of Management and Budget, Comments Requested

June 27, 2007.

SUMMARY: As part of its continuing effort to reduce paperwork burden and as required by the Paperwork Reduction Act (PRA) of 1995 (44 U.S.C. 3501-3520), the Federal Communications Commission invites the general public and other Federal agencies to comment on the following information collection(s). Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before August 4, 2008. If you anticipate that you will be submitting PRA comments, but find it difficult to do so within the period of time allowed by this notice, you should advise the FCC contact listed below as soon as possible.

ADDRESSES: Submit your comments to Nicholas A. Fraser, Office of Management and Budget (e-mail address: nfraser@omb.eop.gov), and to the Federal Communications Commission's PRA mailbox (e-mail address: PRA@fcc.gov). Include in the e-mails the OMB control number of the collection as shown in the SUPPLEMENTARY INFORMATION section below or, if there is no OMB control number, the Title as shown in the SUPPLEMENTARY INFORMATION section. If you are unable to submit your comments by e-mail contact the person listed below to make alternate arrangements.

FOR FURTHER INFORMATION CONTACT: For additional information contact Jerry Cowden via e-mail at PRA@fcc.gov or at 202-418-0447. To view or obtain a copy of an information collection request (ICR) submitted to OMB: (1) Go to this OMB/GSA web page: http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the OMB control number of the ICR you want to view (or its title if there is no OMB control number) and then click on the ICR Reference Number. A copy of the FCC submission to OMB will be displayed.

SUPPLEMENTARY INFORMATION: OMB Control Number: 3060-0207.

Title: Part 11—Emergency Alert System.

Form Number: Not applicable.

Type of Review: Revision of a currently approved collection.

Respondents: Businesses or other for-profit; not-for-profit institutions; and state, local or tribal government.

Number of Respondents and Responses: 63,080 respondents; 3,533,196 responses.

Estimated Time per Response: 0.0227035 hour (range of 1 minute to 20 hours).

Frequency of Response: Recordkeeping; third party disclosure; on occasion reporting requirement; semi-annual and annual reporting requirement.

Obligation to Respond: Mandatory (47 CFR part 11).

Total Annual Burden: 80,216 hours.

Total Annual Cost: None.

Privacy Act Impact Assessment: No impact.

Nature and Extent of Confidentiality: There is no need for confidentiality.

Needs and Uses: In the Second Report and Order and Further Notice of Proposed Rulemaking in EB Docket No. 04-296, FCC 07-109, the Commission adopts rules that require states to file new EAS plans with the Commission under certain circumstances, expand the number of private entities covered by EAS, and impose new obligations on private entities. The rules require EAS participants to maintain and keep immediately-available a copy of the EAS operating handbook at normal duty positions or EAS equipment locations; requires state and local EAS plans to be reviewed and approved by the Chief, Public Safety and Homeland Security Bureau prior to implementation; requires manufacturers to include instructions and information on the proper installation, operation and programming of an EAS Encoder, EAS Decoder, or combined unit and a list of all State and county FIPS numbers with each unit sold or marketed in the US; require appropriate logs be kept regarding EAS testing and EAS Decoder malfunctions; allow all EAS participants to submit a written request to the FCC asking to be a Non-Participating National source; require communications common carriers participating in the national level EAS and rendering free service to file semiannual reports on the free service; require entities wishing to voluntarily participate in the national level EAS to submit a written request to the FCC; require written agreements between broadcast stations and cable or wireless cable systems on election not to interrupt EAS messages; require a waiver request be made to the FCC if EAS sources cannot be received and alternate arrangements cannot be made; impose a disclosure requirement on SDARS licensees or DBS providers that are not able to transmit state and local EAS messages; and require logging of various events and tests.

Federal Communications Commission.
Marlene H. Dortch,
Secretary.

[FR Doc. E8-15175 Filed 7-2-08; 8:45 am]

BILLING CODE 6712-01-P